DEPARTMENT OF COMMERCE

National Oceanic and Atmospheric Administration

50 CFR Part 600

[Docket No. 0808041047-81182-01]

RIN 0648-AW62

Magnuson-Stevens Act Provisions; Scientific and Statistical Committees; Peer Review; National Standard Guidelines

AGENCY: National Marine Fisheries Service (NMFS), National Oceanic and Atmospheric Administration (NOAA), Commerce.

ACTION: Advanced notice of proposed rulemaking; request for comments.

SUMMARY: NMFS announces that it is considering, and is seeking public comment on proposed rulemaking to revise National Standard 2 (NS2) guidelines regarding use of best scientific information available, in light of reauthorization of the Magnuson-Stevens Fishery Conservation and Management Act (Magnuson-Stevens Act). NMFS is considering modifying the language describing the content and purpose of the Stock Assessment and Fishery Evaluation (SAFE) Report or related documents, and adding language regarding peer review processes, the role of the scientific and statistical committees (SSCs) of the Regional Fishery Management Councils (Councils), and the relationship between peer reviews and SSCs.

DATES: Written comments must be received on or before 5 p.m., local time, December 17, 2008.

ADDRESSES: You may submit comments, identified by 0648-AW62, by any one of the following methods:

• Electronic Submissions: Submit all electronic public comments via the Federal eRulemaking Portal http://www.regulations.gov.

• Fax: Attn: William Michaels 301-713-1875.

• Mail: William Michaels, NOAA Fisheries Service, Office of Science and Technology, 1315 East-West Highway, F/ST4, Silver Spring, MD 20910.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Bill Michaels, 301-713-2363 x136.

SUPPLEMENTARY INFORMATION: On January 12, 2007, the Magnuson-Stevens Fishery Conservation and Management Reauthorization Act of 2006 (MSRA) was signed into law. The MSRA amendments to the Magnuson-Stevens Act included provisions to improve the use of science in decision-making, provide for a stronger role for Councils' SSCs and enhance peer review processes.

Currently, the NS2 guidelines address the use of best scientific information available to support fishery management actions, prescribe the content and purpose of SAFE reports or similar documents, and assign responsibility for the preparation and review of SAFE reports to the Secretary of Commerce (Secretary). SAFE reports are intended to provide the Councils with a summary of current scientific information available to make management decisions and are intended to contain information upon which Councils are to base harvest specifications, including annual harvest levels from each stock. At this time, NS2 does not specifically mention that the SAFE should include SSC recommendations for acceptable biological catch from either the SSC or peer review process (established under Section 302(g)(1)(E) of the Magnuson-Stevens Act). SSC recommendations for acceptable biological catch are the basis upon which each Council is to set annual catch limits (ACLs), and ACLs are not to exceed these fishing level recommendations per Section 302(h)(6) of the Magnuson-Stevens Act. NMFS is considering, and is seeking public comment on how to revise the discussion of SAFE reports in the NS2 to include the scientific recommendations that are to be provided by the SSCs under the Magnuson-Stevens Act, as reauthorized.

NMFS is inviting comment on the extent to which the NS2 guidelines should provide guidance as to what constitutes “best scientific information available.” In 2004, the National Research Council (NRC) of the National Academies was charged with examining the application of the term “best scientific information available” as the basis for fishery conservation and management measures required under NS2 and recommended approaches for a more uniform application of the standard within the context of current and future fisheries management efforts. The NRC recommendations can be found in their publication, “Improving the Use of the Best Scientific Information Available' Standard in Fisheries Management” (NRC 2004, http://books.nap.edu/openbook.php). Although NMFS has informally adopted many of the NRC recommendations, this advanced notice of proposed rulemaking (ANPR) is an opportunity to solicit and incorporate recommendations into the NS2 guidance.

Section 302(g)(1)(E) of the Magnuson-Stevens Act provides that “(T)he Secretary and each Council may establish a peer review process for that Council for scientific information used to advise the Council about the conservation and management of the fishery. The review process, which may include existing committees or panels, is deemed to satisfy the requirements of the guidelines issued pursuant to section 515 of the Treasury and General Government Appropriations Act for Fiscal year 2001,” otherwise known as the Information Quality Act. At present, none of the 10 national standards, or national standard guidelines, directly discuss or provide guidance on peer review processes.

NMFS is considering expanding NS2 to include specific language regarding peer review processes. NS2 appears to be the logical national standard to provide further guidance regarding peer reviews, since a peer review process is one method for ensuring that the best scientific information available is utilized in Council decisions. This language may include minimum criteria for peer review processes, based in part on the public comments received. Furthermore, there may be a need to clarify the relationship between the peer review processes that may be established by the Secretary and each Council and the role of the SSC of that Council vis-á-vis the peer review process.

Finally, NMFS seeks comments from the public on other issues or clarifications to NS2 that the public would like to see addressed in this rulemaking.

Authority: 16 U.S.C. 1851.

Dated: September 15, 2008.
Samuel D. Rauch III,
Deputy Assistant Administrator for Regulatory Programs, National Marine Fisheries Service.

[FR Doc. E8-21837 Filed 9-17-08; 8:45 am]

BILLING CODE 3510-22-S